DEPARTMENT OF ENERGY

Federal Energy Regulatory Commission

Combined Notice of Filings #2

Take notice that the Commission received the following electric rate filings:

Docket Numbers: ER23-2959-000.

Applicants: Pennsylvania Electric Company, PJM Interconnection, L.L.C.

Description: § 205(d) Rate Filing: Pennsylvania Electric Company submits tariff filing per 35.13(a)(2)(iii): PENELEC Amends 10 ECSAs (5788 5789 5792 5911 5912 5917 5919 5920 5925 5928) to be effective 12/31/9998.

Filed Date: 9/29/23.

Accession Number: 20230929-5034.

Comment Date: 5 p.m. ET 10/20/23.

Docket Numbers: ER23-2960-000.

Applicants: Public Service Company of Colorado.

Description: § 205(d) Rate Filing: Revisions to Schedule 1—WEIS Charges to be effective 1/1/2024.

Filed Date: 9/29/23.

Accession Number: 20230929-5064.

Comment Date: 5 p.m. ET 10/20/23.

Docket Numbers: ER23-2961-000.

Applicants: Midcontinent Independent System Operator, Inc., Otter Tail Power Company.

Description: § 205(d) Rate Filing: Midcontinent Independent System Operator, Inc. submits tariff filing per 35.13(a)(2)(iii): 2023-09-29_SA 4170 OTP-Minnkota Power FCA (Erie) to be effective 11/29/2023.

Filed Date: 9/29/23.

Accession Number: 20230929-5073.

Comment Date: 5 p.m. ET 10/20/23.

Docket Numbers: ER23-2962-000.

Applicants: Midcontinent Independent System Operator, Inc.

Description: § 205(d) Rate Filing: 2023-09-29_SA 2912 Termination of WPSC-WPSC FCA (Gaylord) (J392) to be effective 9/30/2023.

Filed Date: 9/29/23.

Accession Number: 20230929-5123.

Comment Date: 5 p.m. ET 10/20/23.

Docket Numbers: ER23-2963-000.

Applicants: Oakland Power Company LLC.

Description: Tariff Amendment: Notice of Termination of Must-Run Service Agreement to be effective 1/1/2024.

Filed Date: 9/29/23.

Accession Number: 20230929-5155.

Comment Date: 5 p.m. ET 10/20/23.

Docket Numbers: ER23-2964-000.

Applicants: East Kentucky Power Cooperative, Inc., PJM Interconnection, L.L.C.

Description: § 205(d) Rate Filing: East Kentucky Power Cooperative, Inc. submits tariff filing per 35.13(a)(2)(iii): PJM TOs CTOA Amendments re Order 881 Transmission Line Ratings to be effective 7/12/2025.

Filed Date: 9/29/23.

Accession Number: 20230929-5184.

Comment Date: 5 p.m. ET 10/20/23.

Docket Numbers: ER23-2965-000.

Applicants: Public Service Company of Colorado.

Description: § 205(d) Rate Filing: 2023 Production WEIS Admin Fee to be effective 1/1/2024.

Filed Date: 9/29/23.

Accession Number: 20230929-5196.

Comment Date: 5 p.m. ET 10/20/23.

Docket Numbers: ER23-2966-000.

Applicants: New England Power Pool Participants Committee.

Description: § 205(d) Rate Filing: Oct 2023 Membership Filing to be effective 10/1/2023.

Filed Date: 9/29/23.

Accession Number: 20230929-5211.

Comment Date: 5 p.m. ET 10/20/23.

Docket Numbers: ER23-2967-000.

Applicants: Toms River Net Meter Solar, LLC.

Description: Baseline eTariff Filing: Market-Based Rate Application to be effective 9/30/2023.

Filed Date: 9/29/23.

Accession Number: 20230929-5232.

Comment Date: 5 p.m. ET 10/20/23.

Docket Numbers: ER23-2968-000.

Applicants: Pacific Gas and Electric Company.

Description: § 205(d) Rate Filing: Balancing Accounts Update 2024 (TRBAA, RSBAA, ECRBAA) to be effective 1/1/2024.

Filed Date: 9/29/23.

Accession Number: 20230929-5260.

Comment Date: 5 p.m. ET 10/20/23.

Docket Numbers: ER23-2969-000.

Applicants: California Independent System Operator Corporation.

Description: Tariff Amendment: 2023-09-29 Termination—Split Resource—Calpine and Sutter to be effective 11/29/2023.

Filed Date: 9/29/23.

Accession Number: 20230929-5265.

Comment Date: 5 p.m. ET 10/20/23.

Docket Numbers: ER23-2970-000.

Applicants: Basin Electric Power Cooperative.

Description: § 205(d) Rate Filing: Basin Electric Power Cooperative, Submission of Revised Rate Schedule A to be effective 1/1/2024.

Filed Date: 9/29/23.

Accession Number: 20230929-5268.

Comment Date: 5 p.m. ET 10/20/23.

Docket Numbers: ER23-2971-000.

Applicants: New York State Electric & Gas Corporation, New York Independent System Operator, Inc.

Description: § 205(d) Rate Filing: New York State Electric & Gas Corporation submits tariff filing per 35.13(a)(2)(iii): NYISO-NYSEG Joint 205: EPC Agreement for Alle Catt II Wind project (SA2794) to be effective 9/15/2023.

Filed Date: 9/29/23.

Accession Number: 20230929-5269.

Comment Date: 5 p.m. ET 10/20/23.

Docket Numbers: ER23-2972-000.

Applicants: PJM Interconnection, L.L.C.

Description: § 205(d) Rate Filing: First Revised ISA, Service Agreement No. 4316; Queue No. AE2-183 to be effective 8/30/2023.

Filed Date: 9/29/23.

Accession Number: 20230929-5278.

Comment Date: 5 p.m. ET 10/20/23.

Docket Numbers: ER23-2973-000.

Applicants: Mule Shoe Energy Storage LLC.

Description: Request for Limited, Prospective Waiver, et al. of Mule Shoe Energy Storage LLC.

Filed Date: 9/28/23.

Accession Number: 20230928-5176.

Comment Date: 5 p.m. ET 10/10/23.

Docket Numbers: ER23-2974-000.

Applicants: California Independent System Operator Corporation.

Description: § 205(d) Rate Filing: 2023-09-29 2023 Grid Management Charge—Cost-of-Service Study Update to be effective 1/1/2024.

Filed Date: 9/29/23.

Accession Number: 20230929-5304.

Comment Date:5 p.m. ET 10/20/23.

Take notice that the Commission received the following electric securities filings:

Docket Numbers: ES23-86-000.

Applicants: Allegheny Generating Company.

Description: Application Under Section 204 of the Federal Power Act for Authorization to Issue Securities of Allegheny Generating Company.

Filed Date: 9/28/23.

Accession Number: 20230928-5146.

Comment Date: 5 p.m. ET 10/19/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 29, 2023.
Kimberly D. Bose,
Secretary.

[FR Doc. 2023-22208 Filed 10-4-23; 8:45 am]

BILLING CODE 6717-01-P